NUCLEAR REGULATORY COMMISSION

[Docket No. 50-271; License No. DPR-28]

Entergy Nuclear Vermont Yankee, LLC and Entergy Nuclear Operations, Inc.; Receipt of Request for Action Under 10 CFR 2.206

Notice is hereby given that by petition dated August 27, 2007, the New England Coalition (NEC or the petitioner) has requested that the Nuclear Regulatory Commission (NRC or the Commission) take action with regard to the Vermont Yankee Nuclear Power Station (Vermont Yankee). The NEC petition requested that NRC promptly restore reasonable assurance of adequate protection of public health and safety that is now degraded by the failure of the licensee and its employees to report adverse conditions leading to a reduction in plant safety margins at the Vermont Yankee Nuclear Power Station (Vermont Yankee), or otherwise to order a derate or shutdown of Vermont Yankee until it can be determined to what extent Vermont Yankee is being operated in an unanalyzed condition. Specifically, the petition requested the following actions: (1) NRC completion of a Diagnostic Evaluation Team examination or Independent Safety Assessment of Vermont Yankee to determine the extent of condition of non-conformances, reportable items, hazards to safety, and the root causes thereof; (2) NRC completion of a safety culture assessment to determine why worker safety concerns were not previously reported and why assessments of safety culture under the Reactor Oversight Process failed to capture the fact or reasons that safety concerns have gone unreported; (3) derate Vermont Yankee to 50% of licensed thermal power with a mandatory hold at 50% until a thorough and detailed structural and performance analysis of the cooling towers, including the alternate cooling system, has been completed by the licensee; reviewed and approved by NRC; and until the above steps (1) and (2) have been completed; and (4) NRC investigation and determination of whether or not similar non-conforming conditions and causes exist at other Entergy-run nuclear power plants.

As a basis for the request, the petition cited problems related to the inadequate performance of Vermont Yankee Inservice Inspection, Maintenance, Engineering, and Quality Assurance leading to a cooling tower cell collapse coupled with the employees' assertion of degrading plant conditions inimical to public health.

The request is being treated pursuant to Title 10 of the Code of Federal Regulations (10 CFR) section 2.206 of the Commission's regulations. The request has been referred to the Director of the Office of Nuclear Reactor Regulation. As provided by 10 CFR 2.206, appropriate action will be taken on this petition within a reasonable time. Mr. Raymond Shadis, in his capacity as the petitioner's Staff Technical Advisor, participated in two telephone conference calls with the NRC's Petition Review Board (PRB) on September 12, 2007, and October 3, 2007, to discuss the petition and provide any additional explanation in light of the PRB's initial recommendation. The results of those discussions were considered in the PRB's determination regarding the petitioner's request for action and in establishing the schedule for the review of the petition. The PRB confirmed its initial recommendation to reject action items (1), (2), and (4), which are the diagnostic evaluation team examination, safety culture assessment, and the NRC investigation at other Entergy facilities. These action items were rejected for review under the 2.206 process because these actions are not enforcement-related. However, the PRB has determined that the petition meets the criteria for review in Management Directive 8.11 with respect to a portion of action item (3). Specifically, the PRB found that the facts presented in the petition related to the cooling tower cell collapse in action (3) were credible and sufficient to warrant further inquiry.

A copy of the petition and supplement and the transcripts of the telephone conference calls are available for inspection at the Commission's Public Document Room (PDR), located at One White Flint North, Public File Area O1 F21, 11555 Rockville Pike (first floor), Rockville, Maryland and from the NRC's Agencywide Documents Access and Management System (ADAMS) Public Electronic Reading Room on the Internet at the NRC Web site, http://www.nrc.gov/reading-rm/adams.html (ADAMS Accession Nos. ML072420194, ML072780363, ML072610466, and ML07830584). Persons who do not have access to ADAMS or who encounter problems in accessing the documents located in ADAMS, should contact the NRC PDR Reference staff by telephone at 1-800-397-4209 or 301-415-4737, or by e-mail to pdr@nrc.gov.

Dated at Rockville, Maryland, this 6th day of November 2007.
For the Nuclear Regulatory Commission.
J. T. Wiggins,
Deputy Director, Office of Nuclear Reactor Regulation.

[FR Doc. E7-22093 Filed 11-9-07; 8:45 am]

BILLING CODE 7590-01-P